DEPARTMENT OF TRANSPORTATION

Federal Highway Administration

Notice of Final Federal Agency Action on Proposed Transportation Project in Illinois

AGENCY: Federal Highway Administration (FHWA), Department of Transportation (DOT).

ACTION: Notice of Limitation on Claims for Judicial Review of Actions by FHWA, the United States Army Corps of Engineers (USACE), and other Federal Agencies.

SUMMARY: This notice announces actions taken by the FHWA and the USACE that are final. These final agency actions relate to the proposed highway construction along Lake Shore Drive, Stony Island Avenue, Hayes Drive, and other roadways in Jackson Park and the construction of proposed trails and underpasses in Jackson Park, Cook County, Illinois. The final agency actions (1) authorize the City of Chicago's proposed discharges of fill material into waters of the United States, (2) grant permission to alter a Federally-funded ecosystem restoration project under the Great Lakes Fishery & Ecosystem Restoration program, and (3) grant approval for the highway project to proceed to right-of-way acquisition, final design, and construction. The FHWA's Finding of No Significant Impact (FONSI) provides details on the Selected Alternative for the proposed improvements.

DATES: By this notice, the FHWA is advising the public of the final agency actions subject to 23 U.S.C. 139(l)(1). A claim seeking judicial review of the Federal agency actions of the proposed highway project will be barred unless the claim is filed on or before July 8, 2021. If the Federal law that authorizes judicial review of a claim provides a time period of less than 150 days for filing such claim, then that shorter time period still applies.

FOR FURTHER INFORMATION CONTACT: For FHWA: Ms. Arlene K. Kocher, Division Administrator, 3250 Executive Park Drive, Springfield, Illinois 62703; telephone: (217) 492-4640; email address: Arlene.Kocher@dot.gov. The FHWA Illinois Division Office's normal business hours are 7:30 a.m. to 4:15 p.m. (Central Time). For USACE: Keith Wozniak, Chief, Regulatory Branch, 231 South LaSalle Street, Suite 1500, Chicago, Illinois 60604; telephone: (312) 846-5530; email address: Keith.L.Wozniak@usace.army.mil. The USACE Chicago District's normal business hours are 8:00 a.m. to 4:30 p.m. (Central Time).

SUPPLEMENTARY INFORMATION: Notice is hereby given that the FHWA has taken a final agency action by issuing a (FONSI) for the following highway project in the State of Illinois: The proposed construction along Lake Shore Drive, Stony Island Avenue, Hayes Drive, and other roadways in Jackson Park and the construction of proposed trails and underpasses in Jackson Park, Cook County, Illinois.

Lake Shore Drive (U.S. Route 41) will be widened to the west to provide an additional southbound travel lane between 57th Street and Hayes Drive. To accommodate the additional travel lane, the 59th Street Inlet Bridge will be widened and modifications at the intersections of 57th Street, Science Drive, and Hayes Drive are proposed. Hayes Drive will be reconfigured to remove existing on-street parking to provide two travel lanes in each direction with minimal widening. Stony Island Avenue will be widened to the east to accommodate additional through lanes and turn lanes at cross-street intersections. Proposed bicycle and pedestrian accommodations include the construction of four underpasses within Jackson Park. Proposed trails and connections along Cornell Drive, Hayes Drive, and Marquette Drive will also be constructed.

The FHWA's action, related actions by other Federal agencies, and the laws under which such actions were taken, are described in the Environmental Assessment (EA) approved on September 21, 2020, the FONSI approved January 21, 2021, and in other documents in the project file. The EA and FONSI are available by contacting the FHWA, the USACE, or the Illinois Department of Transportation at the addresses provided above. In addition, these documents can be viewed and downloaded from the project website at https://www.chicago.gov/city/en/depts/dcd/supp_info/jackson-park-improvements.html.

This notice applies to all Federal agency decisions as of the issuance date of this notice and all laws under which such actions were taken, including, but not limited to:

1. General: National Environmental Policy Act (NEPA) [42 U.S.C. 4321-4351] Federal-Aid Highway Act [23 U.S.C. 109 and 23 U.S.C. 128].

2. Air: Clean Air Act [42 U.S.C. 7401-7671(q)].

3. Land: Section 4(f) of the Department of Transportation Act of 1966 [49 U.S.C. 303].

4. Social and Economic: Civil Rights Act of 1964 [42 U.S.C. 2000(d)-2000(d)(1)].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)].

6. Wetlands and Water Resources: Clean Water Act (Section 404, Section 401, Section 319) [33 U.S.C. 1251-1377], Rivers and Harbors Act of 1899 [33 U.S.C. 401 et seq.].

7. Wildlife: Endangered Species Act [16 U.S.C. 1531-1544 and Section 1536]; Fish and Wildlife Coordination Act [16 U.S.C. 661-667(d)], Migratory Bird Treaty Act [16 U.S.C. 703-712].

8. Executive Orders: E.O. 11990 Protection of Wetlands. E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Research, Planning and Construction. The regulations implementing Executive Order 12372 regarding intergovernmental consultation on Federal programs and activities apply to this program).

Authority: 23 U.S.C. 139(l)(1).

Issued on: February 2, 2021.
Arlene K. Kocher,
Division Administrator, Springfield, Illinois.

[FR Doc. 2021-02438 Filed 2-5-21; 8:45 am]

BILLING CODE 4910-RY-P